DEPARTMENT OF TRANSPORTATION

[4910-RY]

Federal Highway Administration

Notice of Final Federal Agency Actions on Proposed US 1 Improvements—Rockingham, Richmond County, NC

AGENCY: Federal Highway Administration (FHWA), DOT.

ACTION: Notice of Limitations on Claims for Judicial Review of Actions by FHWA, and Other Federal Agencies.

SUMMARY: This notice announces actions taken by FHWA, and other Federal agencies that are final within the meaning of 23 U.S.C. 139 (l)(1). The actions relate to a proposed highway project, US 1 Improvements—Rockingham, Richmond County, NC from Sandhill Road (SR 1971) to Marston Road (SR 1001). Those actions grant licenses, permits, and approvals for the project.

DATES: By this notice, the FHWA is advising the public of final agency actions subject to 23 U.S.C. 139 (l)(1). A claim seeking judicial review of the Federal agency actions on the highway project will be barred unless the claim is filed on or before February 3, 2014. If the Federal law that authorizes judicial review of a claim provides a time period of less than 150 days for filing such claim, then that shorter time period still applies.

FOR FURTHER INFORMATION CONTACT: For FHWA: Clarence W. Coleman, P. E., Director of Preconstruction and Environment, Federal Highway Administration, 310 New Bern Avenue, Ste 410, Raleigh, North Carolina, 27601-1418; Telephone: (919) 747-7014; email: clarence.coleman@dot.gov. FHWA North Carolina Division Office's normal business hours are 8 a.m. to 5 p.m. (Eastern Time). For the North Carolina Department of Transportation (NCDOT): Eric Midkiff, P.E., Project Development and Environmental Analysis Eastern Section Head, North Carolina Department of Transportation (NCDOT), 1 South Wilmington Street (Delivery), 1548 Mail Service Center, Raleigh, North Carolina 27699-1548; Telephone (919) 707-6030; email: emidkiff@ncdot.gov. NCDOT—Project Development and Environmental Analysis Branch Office's normal business hours are 8 a.m. to 5 p.m. (Eastern Time).

SUPPLEMENTARY INFORMATION: Notice is hereby given that the FHWA and other Federal agencies have taken final agency action subject to 23 U.S.C. § 139 (l)(1) by issuing licenses, permits, and approvals for the following highway project in the State of North Carolina: US 1 Improvements, Federal Aid No. NHF-1(1), Richmond County, North Carolina. This project identified a need to address capacity constraints and mobility considerations on the current US 1 in and around Rockingham, North Carolina. The proposed action will improve 19 miles of US 1 from Sandhill Road (SR 1971) south of Rockingham to Marston Road (SR 1001) in Marston. The selected alternative (Alternative 21) constructs approximately 14 miles on new location, and widens about five miles of existing US 1. From Sandhill Road (SR 1971) to about one and a half miles north of Fox Road (SR 1606), US 1 is proposed to be a four-lane, median-divided roadway with full control of access along the new location part and partial control of access on the widening part. From one and a half miles north of Fox Road (SR 1606) to Cognac Road (SR 1605), a four-lane, median-divided roadway with partial control of access is being proposed. A five-lane section with no control of access is proposed along existing US 1 from Cognac Road (SR 1605) to the existing five-lane section at Marston Road (SR 1001). The actions by the Federal agencies, and the laws under which such actions were taken, are described in the Final Environmental Impact Statement (FEIS) for the project, approved on December 21, 2011, in the FHWA Record of Decision (ROD) issued on June 28, 2013, and in other documents in the FHWA project files. The FHWA FEIS and ROD can be viewed at the NCDOT—Project Development and Environmental Analysis Branch, 1020 Birch Ridge Drive, Raleigh, North Carolina; NCDOT—Division 8 Construction Engineer Office, 902 N. Sandhills Blvd., Aberdeen, North Carolina; Rockingham Public Library, 412 E. Franklin Street, Rockingham, North Carolina; Richmond County Planning Department, 221 South Hancock Street, Rockingham, North Carolina; Richmond County School System, 118 Vance Street, Hamlet, North Carolina; City of Rockingham Planning & Inspections Department, 514 Rockingham Boulevard, Rockingham, North Carolina; and Richmond County Chamber of Commerce, 2 Main Street, Hamlet, North Carolina.

This notice applies to all Federal agency decisions as of the issuance date of this notice and all laws under which such actions were taken, including but not limited to:

1. General: National Environmental Policy Act (NEPA) [42 USC 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 USC 1531-1544 and Section 1536], Marine Mammal Protection Act [16 U.S.C. 1361], Anadromous Fish Conservation Act [16 U.S.C. 757(a)-757(g)], Fish and Wildlife Coordination Act [16 U.S.C. 661-667(d)], Migratory Bird Treaty Act [16 U.S.C. 703-712], Magnuson-Stevenson Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-II]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Land and Water Conservation Fund (LWCF) [16 U.S.C. 4601-4604]; Safe Drinking Water Act (SDWA) [42 U.S.C. 300(f)-300(j)(6)]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Hazardous Materials: Comprehensive Environmental Response, Compensation, and Liability Act (CERCLA) [42 U.S.C. 9601-9675]; Superfund Amendments and Reauthorization Act of 1986 (SARA; 42 U.S.C. 11011 et seq.); Resource Conservation and Recovery Act (RCRA) [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species; and E. O. 13186—Responsibilities of Federal Agencies To Protect Migratory Birds.

(Catalog of Federal Domestic Assistance Program Number 20.205, Highway Planning and Construction. The regulations implementing Executive Order 12372 regarding intergovernmental consultation on Federal programs and activities apply to this program.)

Authority: 23 U.S.C. 139 (l)(1)

Issued on: August 26, 2013.
Clarence W. Coleman,
Director of Preconstruction and Environment, Raleigh, North Carolina.

[FR Doc. 2013-21722 Filed 9-5-13; 8:45 am]

BILLING CODE P